DEPARTMENT OF AGRICULTURE

Office of the Secretary

Cancellation of the National Agricultural Research, Extension, Education, and Economics Advisory Board Meeting

AGENCY: Research, Education, and Economics, USDA.

ACTION: Notice of intent to cancel meeting.

SUMMARY: The meeting of the National Agricultural Research, Extension, Education, and Economics Advisory Board scheduled for October 23-25, 2012 has been cancelled. The original meeting notice was published in Federal Register Volume 77, Number 186, (Tuesday, September 25, 2012) {Pages 58978-58979} [FR Doc No: 2012-23610].

FOR FURTHER INFORMATION CONTACT: J. Robert Burk, Executive Director or Shirley Morgan-Jordan, Program Support Coordinator, National Agricultural Research, Extension, Education, and Economics Advisory Board; telephone: (202) 720-3684; fax: (202) 720-6199; or email: Robert.Burk@usda.gov or Shirley.Morgan@ars.usda.gov.

SUPPLEMENTARY INFORMATION: A meeting of the National Agricultural Research, Extension, Education, and Economics Advisory Board scheduled to take place at the Phoenix Park Hotel, 520 North Capitol Street NW., Washington, DC 20001 on October 23-25, 2012 has been cancelled.

Done at Washington, DC, this 10th day of October 2012.
Catherine Woteki,
Under Secretary, Research, Education, and Economics.

[FR Doc. 2012-25928 Filed 10-22-12; 8:45 am]

BILLING CODE 3410-03-P